DEPARTMENT OF THE INTERIOR

Bureau of Land Management

[LLES956000-L14200000-BJ0000]

Eastern States: Filing of Plat of Survey

AGENCY: Bureau of Land Management, Interior.

ACTION: Notice of Filing of Plat of Survey; Louisiana.

SUMMARY: The Bureau of Land Management (BLM) will file the plat of survey of the lands described below in the BLM-Eastern States office in Springfield, Virginia, 30 calendar days from the date of publication in the Federal Register.

FOR FURTHER INFORMATION CONTACT: Bureau of Land Management-Eastern States, 7450 Boston Boulevard, Springfield, Virginia 22153. Attn: Cadastral Survey.

SUPPLEMENTARY INFORMATION: The survey was requested by the Bureau of Land Management-Eastern States.

The lands surveyed are:

Louisiana Meridian, Louisiana

T. 5 N., R 3 E.

The plat of survey represents the dependent resurvey of the portion of the east boundary and a portion of the sub-divisional line and the survey of the subdivision of section 26, in Township 5 North, Range 3 East, of the Louisiana Meridian, in the State of Louisiana, and was accepted January 4, 2011.

We will place a copy of the plat we described in the open files. It will be available to the public as a matter of information.

If BLM receives a protest against the survey, as shown on the plat, prior to the date of the official filing, we will stay the filing pending our consideration of the protest.

We will not officially file the plat until the day after we have accepted or dismissed all protests and they have become final, including decisions on appeals.

Date: January 12, 2011.
Dominica Van Koten,
Chief Cadastral Surveyor.

[FR Doc. 2011-1133 Filed 1-19-11; 8:45 am]

BILLING CODE 4310-GJ-P